DEPARTMENT OF DEFENSE

Department of the Navy

Notice of Availability and Notice of Public Hearing of the Draft Environmental Impact Statement for an Annex to the Fort Rosecrans National Cemetery at Marine Corps Air Station Miramar, San Diego, CA

AGENCY: Department of the Navy, DoD.

ACTION: Notice of availability and public meeting.

SUMMARY: In accordance with Section 102(2)(C) of the National Environmental Policy Act of 1969 (42 U.S.C. 4332(2)(C)), as implemented by the Council on Environmental Quality Regulations (40 CFR parts 1500-1508), the Department of the Navy (DON), Marine Corps Air Station Miramar (MCAS Miramar), and Department of Veterans Affairs (VA) announce the availability of the Draft Environmental Impact Statement (DEIS) that evaluates the potential environmental effects of the land use agreement between the DON and the VA National Cemetery Administration (NCA) for the proposed annex to the existing Fort Rosecrans National Cemetery at Point Loma in San Diego, CA. The DEIS also evaluates the potential effects of construction and operation of the proposed cemetery annex. The annex would be located at MCAS Miramar, in San Diego, CA.

The purpose of the proposed action is to provide needed burial space on federal land for military veterans in the San Diego area. The DEIS addresses the proposed site (Site 2), one on-site development alternative (Site 4), and the No Action Alternative.

The DEIS evaluates the potential environmental effects associated with each of the alternatives. Issues addressed in the DEIS include land use, socioeconomics/environmental justice, utilities, public services, visual resources, cultural resources, biological resources, soils and geology, water resources, public health and safety, traffic/circulation, air quality, and noise. Impact analyses include an evaluation of direct, indirect, short-term, and cumulative impacts.

DATES: All written comments must be received on or before December 11, 2006. A public meeting will be held on Thursday, November 16, 2006, from 6 p.m. to 8 p.m. at the Holiday Inn Select Miramar, 9335 Kearny Mesa Road, San Diego, CA.

ADDRESSES: Written comments should be directed to: Ms. Hiphil S. Clemente (Code OPCE.HC), Naval Facilities Engineering Command, Southwest, 1220 Pacific Highway, San Diego, CA 92132.

FOR FURTHER INFORMATION CONTACT: Ms. Hiphil S. Clemente, Naval Facilities Engineering Command, Southwest at telephone 619-532-3781, fax 619-532-4160, or e-mail: hiphil.clemente@navy.mil.

SUPPLEMENTARY INFORMATION: The VA operates the Fort Rosecrans National Cemetery, located on the Point Loma Submarine Base. It is the only national cemetery in San Diego County and has been closed to casketed burials since 1966. It is scheduled to be closed to cremated remains burials by 2008 and has no additional land available for expansion. The NCA has identified a need for additional burial space option for 253,000 San Diego-area eligible military veterans for the next 20 to 30 years.

A Notice of Intent to prepare the DEIS was published in the Federal Register on October 4, 2005. A public scoping meeting was held on November 2, 2005, at the Holiday Inn Select located at 9335 Kearney Villa Road in San Diego, CA.

The DEIS addresses the proposed site (Site 2), one on-site development alternative (Site 4), and the No Action Alternative. The Site 2 Alternative is located in the northwestern corner of MCAS Miramar. This site is approximately 323 acres and has access to Miramar Road to the north and Nobel Drive to the northwest. The site is bounded by Miramar Road to the north, the commuter/freight railway to the south and east, and the western boundary of MCAS Miramar to the west. The Site 4 Alternative is located in the south-central portion of MCAS Miramar in the former Camp Elliott area and is approximately 175 acres. The site is completely surrounded by freeways with State Route 163 to the west, State Route 52 to the south, and Interstate 15 to the east. Kearny Villa Road traverses the site in a north-south direction. The DEIS identifies the Site 2 Alternative as the Preferred Alternative.

The DEIS has been distributed to various federal, state, and local agencies, elected officials, special interest groups, and interested parties. The DEIS is also available for public review at the following local libraries:

Scripps Miramar Ranch Library, 10301 Scripps Lake Drive, San Diego, CA.

Mira Mesa Branch Library, 8405 New Salem Drive, San Diego, CA.

San Diego Central Library, 820 E Street, San Diego, CA.

The public review period begins with the publication of this Notice of Availability and ends 45 days after. All comments must be received on or before December 11, 2006. A public meeting will be held on Thursday, November 16, 2006, from 6 p.m. to 8 p.m. at the Holiday Inn Select Miramar, 9335 Kearny Mesa Road, San Diego, California. The public meeting will follow an informal open house format. The public is invited to attend the meeting at their convenience during the meeting hours and can view project-related displays and speak with DON and VA representatives. A court reporter will be available at the meeting to accept oral comments.

Dated: October 26, 2006.
Lynette M. Breutzman,
Paralegal Specialist, Judge Advocate General's Office, Alternate Federal Register Liaison Officer.

[FR Doc. E6-18248 Filed 10-30-06; 8:45 am]

BILLING CODE 3810-FF-P